OVERSEAS PRIVATE INVESTMENT CORPORATION

Sunshine Act; Board of Directors Meeting

September 13, 2012.

TIME AND DATE: Thursday, September 13, 2012, 9:30 a.m. (Open Portion); 10 a.m. (Closed Portion).

PLACE: Offices of the Corporation, Twelfth Floor Board Room, 1100 New York Avenue NW., Washington, DC.

STATUS: Meeting OPEN to the Public from 9:30 a.m. to 10 a.m. Closed portion will commence at 10 a.m. (approx.).

MATTERS TO BE CONSIDERED: 1. President's Report.

2. Confirmation: John F. Moran as Vice President, Insurance.

3. Minutes of the Open Session of the June 14, 2012 Board of Directors Meeting.

FURTHER MATTERS TO BE CONSIDERED (Closed to the Public 10 a.m.):

1. Finance Project—Jordan.

2. Finance Project—South Africa.

3. Finance Project—Turkey.

4. Insurance Project—Ghana.

5. Insurance Project—Egypt, Jordan and Pakistan.

6. Insurance Project—Ghana.

7. Finance Project—Pan-Africa.

8. Finance Project—Indonesia.

9. Finance Project—Russia.

10. Finance Project—India.

11. Finance Project—India.

12. Minutes of the Closed Session of the June 14, 2012 Board of Directors Meeting.

13. Reports.

14. Pending Major Projects.

Written summaries of the projects to be presented have been posted on OPIC's Web site.

CONTACT PERSON FOR INFORMATION: Information on the meeting may be obtained from Connie M. Downs at (202) 336-8438.

Dated: August 28, 2012.
Connie M. Downs,
Corporate Secretary, Overseas Private Investment Corporation.

[FR Doc. 2012-21595 Filed 8-28-12; 4:15 pm]

BILLING CODE 3210-01-P